DEPARTMENT OF TRANSPORTATION

Federal Aviation Administration

Public Notice for a Change in Use of Aeronautical Property and Long-Term Lease Approval at Pittsburgh International Airport in Pittsburgh, PA

AGENCY: Federal Aviation Administration (FAA), DOT.

ACTION: Notice of a request for a change in designation of on-airport property purchased with Federal funding from aeronautical to non-aeronautical use.

SUMMARY: The FAA is requesting public comment on the Allegheny County Airport Authority's proposal to change 48.262 acres of airport property at Pittsburgh International Airport in Pittsburgh, Pennsylvania from aeronautical to non-aeronautical use. This acreage was purchased with federal financial assistance through the Airport Development Aid Program under Grant Agreement 8-42-0081-03.

DATES: Comments must be received on or before July 12, 2023.

ADDRESSES: Comments on this application may be mailed or delivered to the following address: Julia Arnone, PMP, Project Manager, Planning, Allegheny County Airport Authority, Pittsburgh International Airport, Landside Terminal, 4th Floor Mezz., P.O. Box 12370, Pittsburgh, PA 15231-0370, JArnone@Flypittsburgh.com, and at the FAA Harrisburg Airports District Office: Charles Sacavage, Project Manager, Harrisburg Airports District Office, 3905 Hartzdale Dr., Suite 508, Camp Hill, PA 17011, Charles.L.Sacavage@faa.gov.

FOR FURTHER INFORMATION CONTACT: Charles Sacavage, Project Manager, Harrisburg Airports District Office, location listed above. Telephone: 717-730-2830. The request for change in designation of on-airport property may be reviewed in person at this same location.

SUPPLEMENTARY INFORMATION: In accordance with 49 U.S.C. 47107(h), this notice is required to be published in the Federal Register 30 days before modifying the land-use assurance that requires the property to be used for an aeronautical purpose.

The following is a brief overview of the request:

The Allegheny County Airport Authority (ACAA) requests parcels 173, 174, 175, 181, 185, 186, 191, 192, 206, 218, 226, 229, and 234 (as shown on the Exhibit A) totaling 48.262 acres, be released for long-term lease for construction, operation, and maintenance of warehouse and distribution facilities. Historic parcels 173, 181, 185, 186, 191, 192, 206, 218, 226, 229, and 234 were acquired in 1970 with FAA project 8-42-0081-03, and historic parcels 174 and 175 were acquired in 1969 as part of the Declaration of Taking. The property, situated 3,940' from the end of PIT runway 10L/28R, and north of Industrial Drive, is vacant, not used, and not developed. ACAA will lease this property to grow airport revenues and grow the economy. The purpose of this request is to permanently change the designation of the property given there is no potential for future aviation use, as demonstrated by the Airport Layout Plan. Subsequent to the implementation of the proposed redesignation, rents received by the airport from this property must be used in accordance with FAA's Policy and Procedures Concerning the Use of Airport Revenue, published in the Federal Register on February 16, 1999.

Any person may inspect the request by appointment at the FAA office address listed above.

Interested persons are invited to comment. All comments will be considered by the FAA to the extent practicable.

Issued in Camp Hill, Pennsylvania, June 9, 2023.
Ricky Harner,
Manager, Harrisburg Airports District Office.

[FR Doc. 2023-12941 Filed 6-15-23; 8:45 am]

BILLING CODE 4910-13-P